FEDERAL RETIREMENT THRIFT INVESTMENT BOARD

Sunshine Act Notice

Time and Date: 9 a.m. (EDT), May 16, 2006.

Place: 4th Floor Conference Room, 1250 H Street, NW, Washington, DC.

Status: Open.

Matters to Be Considered: 1. Approval of the minutes of the April 17, 2006, Board member meeting.

2. Thrift Savings Plan activity report by the Executive Director.

—Welcome to new General Counsel/Secretary.

—NFC-to-SI Transition Report (June 9).

—Legislation Update.

—Performance Report.

Contact Person for More Information: Thomas J. Trabucco, Director, Office of External Affairs, (202) 942-1640.

Dated: May 1, 2006.
Thomas K. Emswiler,
Secretary to the Board, Federal Retirement Thrift Investment Board.

[FR Doc. 06-4213 Filed 5-1-06; 4:26 pm]

BILLING CODE 6760-01-P